DEPARTMENT OF COMMERCE

Foreign-Trade Zones Board

[B-54-2020]

Foreign-Trade Zone (FTZ) 136—Brevard County, Florida; Notification of Proposed Production Activity; Airbus OneWeb Satellites North America LLC (Satellites and Satellite Systems), Merritt Island, Florida

Airbus OneWeb Satellites North America LLC (Airbus OneWeb) submitted a notification of proposed production activity to the FTZ Board for its facility in Merritt Island, Florida. The notification conforming to the requirements of the regulations of the FTZ Board (15 CFR 400.22) was received on August 12, 2020.

Airbus OneWeb already has authority to produce satellites for commercial, private, and military applications within FTZ 136. The current request would add foreign status materials/components to the scope of authority. Pursuant to 15 CFR 400.14(b), additional FTZ authority would be limited to the specific foreign-status materials/components described in the submitted notification (as described below) and subsequently authorized by the FTZ Board.

Production under FTZ procedures could exempt Airbus OneWeb from customs duty payments on the foreign-status materials/components used in export production. On its domestic sales, for the foreign-status materials/components noted below, Airbus OneWeb would be able to choose the duty rates during customs entry procedures that apply to its already authorized finished products (duty-free). Airbus OneWeb would be able to avoid duty on foreign-status components which become scrap/waste. Customs duties also could possibly be deferred or reduced on foreign-status production equipment.

The materials/components sourced from abroad include: xenon propellant; MAPSIL: Silicone based elastomer adhesive; heat shrink tubing, not rigid, not reinforced or combined with other materials, without fittings—of polyethylene and polyolefin; electrical adhesive tape; multi-layer insulation sheets, all flexible and over 0.152 mm in thickness and not in rolls, used for thermal protection from extreme heat or cold on spacecraft—layers include mylar, kevlar, dacron, and nomex; hot pressed boron nitrate, industrial ceramic disk; stainless steel tubes or pipe fittings—threaded elbows, bends or sleeves; stainless steel tubes or pipe fittings—not threaded or not bent; assorted stainless steel screws of various lengths that are 6mm or more in diameter, hexagonal heads; stainless steel nuts, not lugnuts; iron or steel rivets; and, RIVNUT—aluminum, threaded fasteners, long shape nut with rivet top (duty rate ranges from duty-free to 8.5%). The request indicates that certain materials/components are subject to duties under Section 232 of the Trade Expansion Act of 1962 (Section 232) and Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary and sent to: ftz@trade.gov. The closing period for their receipt is September 28, 2020.

A copy of the notification will be available for public inspection in the “Reading Room” section of the Board's website, which is accessible via www.trade.gov/ftz.

For further information, contact Christopher Wedderburn at Chris.Wedderburn@trade.gov or (202) 482-1963.

Dated: August 13, 2020.
Andrew McGilvray,
Executive Secretary.

[FR Doc. 2020-18165 Filed 8-18-20; 8:45 am]

BILLING CODE 3510-DS-P